DEPARTMENT OF THE TREASURY

Internal Revenue Service

26 CFR Part 1

[REG-109101-98]

RIN 1545-AW27

Special Rules Regarding Optional Forms of Benefits Under Qualified Retirement Plans; Hearing Cancellation

AGENCY: Internal Revenue Service (IRS), Treasury.

ACTION: Cancellation of notice of public hearing on proposed rulemaking.

SUMMARY: This document provides notice of cancellation of a public hearing on proposed regulations under section 411(d), permitting qualified defined contribution plans to be amended to eliminate some alternative forms in which an account balance can be paid under certain circumstances, and would permit certain transfers between defined contribution plans that are not permitted under regulations now in effect.

DATES: The public hearing originally scheduled for Tuesday, June 27, 2000, at 10 a.m., is cancelled.

FOR FURTHER INFORMATION CONTACT: LaNita Van Dyke of the Regulations Unit, Assistant Chief Counsel (Corporate), (202) 622-7190 (not a toll-free number).

SUPPLEMENTARY INFORMATION: A notice of proposed rulemaking and notice of public hearing that appeared in the Federal Register on Wednesday, March 29, 2000, (65 FR 16546), announced that a public hearing was scheduled for Tuesday, June 27, 2000, at 10 a.m., in Room 6718, Internal Revenue Building, 1111 Constitution Avenue, NW., Washington, DC. The subject of the public hearing is proposed regulations under section 411(d) of the Internal Revenue Code. The public comment period for these proposed regulations expires on Tuesday, June 27, 2000. The outlines of topics to be addressed at the hearing were due on Tuesday, June 6, 2000.

The notice of proposed rulemaking and notice of public hearing, instructed those interested in testifying at the public hearing to submit a request to speak and an outline of the topics to be addressed. As of Friday, June 16, 2000, no one has requested to speak. Therefore, the public hearing scheduled for Tuesday, June 27, 2000, is cancelled.

Cynthia Grigsby,
Chief, Regulations Unit, Assistant Chief Counsel (Corporate).

[FR Doc. 00-15867 Filed 6-23-00; 8:45 am]

BILLING CODE 4830-01-U